DEPARTMENT OF HEALTH AND HUMAN SERVICES

Centers for Disease Control and Prevention

Disease, Disability, and Injury Prevention and Control Special Emphasis Panel: A U.S. Clinical Trial Site To Conduct Evaluations of Topical Microbicides in Heterosexual Women and Men, Contract Solicitation Number 2003-N-00822

In accordance with section 10(a)(2) of the Federal Advisory Committee Act (Pub. L. 92-463), the Centers for Disease Control and Prevention (CDC) announces the following meeting:

Name: Disease, Disability, and Injury Prevention and Control Special Emphasis Panel (SEP): A U.S. Clinical Trial Site to Conduct Evaluations of Topical Microbicides in Heterosexual Women and Men, Contract Solicitation Number 2003-N-00822.

Times and Dates:

7 p.m.-8 p.m., August 14, 2003 (Open).

8 a.m.-8:30 a.m., August 15, 2003 (Open).

8:30 a.m.-5 p.m., August 15, 2003 (Closed).

Place: The Westin Atlanta North Perimeter Hotel, 7 Concourse Parkway, Atlanta, GA 30327, Telephone 770.395.3900.

Status: Portions of the meeting will be closed to the public in accordance with provisions set forth in section 552b(c) (4) and (6), Title 5 U.S.C., and the Determination of the Director, Management Analysis and Services Office, CDC, pursuant to Pub. L. 92-463.

Matters To Be Discussed: The meeting will include the review, discussion, and evaluation of applications received in response to Contract Solicitation Number 2003-N-00822.

For Further Information Contact: Andrew Vernon, Office of the Director, National Center for HIV, STD, and TB Prevention, CDC, 1600 Clifton Road, NE, MS-E07, Atlanta, GA 30333, Telephone 404.639.8006.

The Director, Management Analysis and Services Office has been delegated the authority to sign Federal Register notices pertaining to announcements of meetings and other committee management activities, for both CDC and the Agency for Toxic Substances and Disease Registry.

Dated: July 23, 2003.
Alvin Hall,
Director, Management Analysis and Services Office, Centers for Disease Control and Prevention.

[FR Doc. 03-19198 Filed 7-28-03; 8:45 am]

BILLING CODE 4163-18-P